DEPARTMENT OF AGRICULTURE

Submission for OMB Review; Comment Request

December 17, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control and the agency informs potential persons who are to respond to the collection of information that such persons are not required to respond to the collection of information unless it displays a currently valid OMB control number.

National Agriculture Statistics Service

Title: Childhood Injury and Adult Occupational Survey.

OMB Control Number: 0535-0235.

Summary of Collection: Primary function of the National Agricultural Statistics Services (NASS) is to prepare and issue State and national estimates of crop and livestock production under the authority of 7 U.S.C. 2204 (a). NASS has been asked by the National Institute of Occupational Safety Health (NIOSH) to conduct a childhood injury and adult occupational injury survey. The survey is designed to provide estimates of childhood nonfatal injury incidence and description of injury occurring to children less than 20 years of age who reside, work, or visit farms and describe the occupational injury experience of all farm operators.

Need and Use of the Information: Data from this survey will provide source of consistent information that NIOSH can use to target funds appropriated by Congress for the prevention of childhood agricultural injuries and adult occupational injuries. No source of data on childhood injuries or adult occupational farm injuries exists that covers all aspects of the agricultural production sector.

Description of Respondents: Farms.

Number of Respondents: 60,500.

Frequency of Responses: Reporting: Other.

Total Burden Hours: 12,612.

Rural Utilities Service

Title: 7 CFR Part 1744, Subpart B, Lien Accommodations and Subordination Policy.

OMB Control Number: 0572-0126.

Summary of Collection: Recent changes in the telecommunications industry, including deregulation and technological developments, have caused Rural Utilities Service (RUS) borrowers and other organizations providing telecommunications services to consider undertaking projects that provide new telecommunications services and other telecommunications services not ordinarily financed by RUS. To facilitate the financing of those projects and services, RUS is willing to consider accommodating the Government's lien on telecommunications borrowers' systems in an expedited manner based on the financial strength of the borrowers operations. The RUS telecommunications program provides loans to borrowers at interest rates and on terms that are most favorable than those generally available from the private sector.

Need and Use of the Information: Depending on the purposes for which a lien accommodation is sought, RUS will use the information to provide “automatic” approval for borrowers that meet the financial tests. These tests are designed to ensure that the financial strength of the borrowers is more than sufficient to protect the government's loan security interests; hence, the lien accommodations will not adversely affect the government's financial interests.

Description of Respondents: Business or other for-profit; Not for-profit institutions.

Number of Respondents: 30.

Frequency of Responses: Reporting: On occasion.

Total Burden Hours: 23.

Animal Plant and Health Inspection Service

Title: National Animal Health Monitoring System Sheep 2001 Study.

OMB Control Number: 0579-NEW.

Summary of Collection: The Department of Agriculture is responsible for protecting the health of our Nation's livestock and poultry populations by preventing the introduction and interstate spread of contagious, infectious, or communicable diseases of livestock and poultry and for eradicating such diseases from the United States when feasible. In connection with this mission, the Animal and Plant Health Inspection Service (APHIS) operates the National Health Monitoring System (NAHMS), which collects, on a national basis, statistically valid and scientifically sound data on the prevalence and economic importance of livestock and poultry diseases. NAHMS will initiate the first national data collection for sheep through a national study, Sheep 2001. The study will take place in 22 States, which represent 88.8% of the U.S. sheep population. Collection and dissemination of animal and poultry health information is mandated by 7 U.S.C. 391, The Animal Industry Act of 1884 and 21 U.S.C. 19, “Agents to Examine and Report on Methods of Treatment of Animals, and Means for Suppression of Diseases,” amended February 7, 1928.

Need and Use of the Information: APHIS will use the data collected to: (1) Predict or detect national and regional trends in disease emergence and movement, (2) address emerging issues, (3) determine the economic consequences of disease, and (4) develop trade strategies and support trade decisions. Without the data, the U.S.' ability to detect trends in management, production, and health status that increase/decrease farm economy, either directly or indirectly, would be reduced or nonexistent.

Description of Respondents: Farms; Business or other for profit; Individuals or households; Federal Government; State, Local or Tribal Government.

Number of Respondents: 10,731.

Frequency of Responses: Reporting: On occasion.

Total Burden Hours: 9,090.

Agricultural Marketing Service

Title: Filberts/Hazelnuts Grown in Oregon and Washington.

OMB Control Number: 0581-NEW.

Summary of Collection: Marketing Order No. 982 (7 CFR Part 982), covers filberts/hazelnuts grown in Oregon and Washington. This legislation was designed to permit regulation of certain agricultural commodities for the purpose of providing orderly marketing conditions in interstate commerce and improving returns to growers. The order was developed to stabilize marketing conditions for domestic inshell hazelnuts.

Need and Use of the Information: The information collected will provide the Board with more accurate information on the total supply of hazelnuts handled in Oregon and Washington. This will facilitate the Boards preparation of its annual marketing policy. Reports and forms are periodically reviewed to avoid duplication of information collected by industry and public sector agencies. No similar information is collected from any other organizations. Collecting data less frequently would eliminate data needed to keep the hazelnut industry and USDA abreast of changes at the State and local levels.

Description of Respondents: Business or other for-profit; Farms.

Number of Respondents: 5.

Frequency of Responses: Reporting: On occasion.

Total Burden Hours: 2.

Forest Service

Title: National Woodland Owner Survey.

OMB Control Number: 0596-0078.

Summary of Collection: The Forest and Rangeland Renewable Resources Planning Act of 1974 (Pub. L. 93-278) and the Forest and Rangeland Renewable Resources Act of 1978 (Pub. L. 307) are the legal authorities for conducting the National Woodland Owner Survey. The National Woodland Owner Survey collects information to help answer questions related to the characteristics of the landholdings and landowners, ownership objectives, the supply of timber and non-timber products, forest management practices, delivery of the concerns/constraints perceived by the landowners.

Need and Use of the Information: The Forest Service will collect information to determine the opportunities and constraints that private woodlands owners typically face and facilitate planning and implementing forest policies and programs. If the information is not collected, the knowledge and understanding of private woodland ownerships and their concerns and activities will be severely limited.

Description of Respondents: Individuals or households; Business or other for-profit; Not-for-profit institutions; State, Local or Tribal Government.

Number of Respondents: 10,000.

Frequency of Responses: Reporting: Other (every 5 years).

Total Burden Hours: 2,500.

National Agricultural Statistics Service

Title: Wildlife Damage Surveys.

OMB Control Number: 0535-0217.

Summary of Collection: The primary objectives of the National Agricultural Statistics Service (NASS) are to provide, prepare and issue current official State and national estimates of crop and livestock production, disposition, and prices. Auxiliary services, such as statistical consultation, data collection, summary tabulation, and analysis are performed for other federal and State agencies on a reimbursable basis. NASS has entered into an agreement with the Animal and Plant Health Inspection Service (APHIS) to conduct a nationwide survey of selected field crop, livestock, poultry, vegetable, fruit, and nut producers to assess the true incidence, extent, specific cause, and monetary value of agricultural product and resource losses caused by vertebrate wildlife.

Need and Use of the Information: NASS will collect information on the development of valid statistical data reflecting the percentage of fruit, nut, and berry growers experiencing losses of products or resources and the total dollar losses at the national level caused by vertebrate wildlife. Goals of the survey are to assess the agricultural community's use and name recognition of the Wildlife Service program at a regional level, and provide accurate measurement of wildlife damage to agricultural products for use in long range planning and fund allocation.

Description of Respondents: Farms.

Number of Respondents: 12,000.

Frequency of Responses: Reporting: Annually.

Total Burden Hours: 1,700.

Farm Service Agency

Title: Certification of Livestock Losses for Eligible Disaster.

OMB Control Number: 0560-0179.

Summary of Collection: Under P.L. 106-387, Sec. 813 states “The Secretary shall use up to $10,000,000 of the funds of the Commodity Credit Corporation to make livestock indemnity payment to producers on a farm that have incurred livestock losses during calendar year 2000 due to a disaster, as determined by the Secretary, including losses due to fires and anthrax. Over the past several years, Congress has provided ad hoc funding under several appropriation bills to partially compensate producers who lost livestock because of natural disasters. Producer requesting compensation on CCC-661, Certificate of Livestock Losses for eligible Disaster must provide documentation that shows the number of type of livestock lost in the disaster.

Need and Use of the Information: The Farm Service Agency (FSA) will collect information to determine eligibility and the amount of compensation. Without obtaining the information from the producers, FSA could not carry out the statutory provisions and ensure that funds are being provided to eligible producers.

Description of Respondents: Farms.

Number of Respondents: 2,000.

Frequency of Responses: Reporting: On occasion.

Total Burden Hours: 5,000.

Food and Nutrition Service

Title: Food Stamp Redemption Certificate.

OMB Control Number: 0584-0085.

Summary of Collection: The Food Stamp Act of 1977, requires the Department of Agriculture to issue regulations that provide for the redemption of coupons accepted by retail food stores through approved wholesale food concerns or through insured financial institutions. The Food and Nutrition Service (FNS) will provide authorized retail stores and wholesale food concerns with redemption certificates. The Redemption Certificate and Wholesaler Redemption Certificate (RCs) are used by all authorized wholesalers or retailers when depositing food stamp coupons, and are processed by financial institutions when they are presented for credit or for cash. The issuance of food stamp benefits through the Electronic Benefit Transfer (EBT) system is replacing the issuance of food coupons.

Need and Use of the Information: The Food and Nutrition Service (FNS) will collect information on the verification of the amount of coupons forwarded to the bank for redemption. RCs are distributed to each authorized retailer or wholesaler by FNS for completion. FNS uses the deposit information from the RC to monitor (1) deposits by retailer and wholesale food concerns, and (2) for store monitoring and compliance purposes.

Description of Respondents: Business or other for-profit.

Number of Respondents: 155,584.

Frequency of Responses: Reporting: On occasion.

Total Burden Hours: 135,947.

Food and Nutrition Service

Title: WIC Local Agency Directory Report.

OMB Control Number: 0584-0431.

Summary of Collection: The Supplemental Nutrition Program for Women, Infants, and Children (WIC) is authorized by Section 17 of the Child Nutrition Act (CAN) of 1966 (42 U.S.C. 1786, as amended. The Food and Nutrition Service (FNS) of USDA administers the WIC Program by awarding cash grants to State agencies (generally State health departments). The State agencies award subgrants to local agencies (generally local health departments and nonprofit organizations) to deliver program benefits and services to eligible participants. Local agencies authorized to furnish WIC participants with supplemental foods, nutrition education, breastfeeding promotion and support activities and referral to related health services are subject to change. New local agencies may be selected to operate the WIC Program and local agencies already in operation may be disqualified for continued operation. FNS will collect information using form FNS-648 to report additions and deletions of local agencies operating the WIC program and local agency address changes, when such changes occur.

Need and Use of the Information: The FNS will collect information to maintain a local agency directory that lists the names and addresses of all WIC local agencies. The WIC local agency directory serves as the primary source of data on the number and location of local agencies and is published annually. It is used to refer individuals to the nearest source of WIC Program services and to maintain continuity of program services to migrant and other transient participants.

Description of Respondents: State, Local or Tribal Government.

Number of Respondents: 88.

Frequency of Responses: Reporting: On occasion.

Total Burden Hours: 15.

Food and Nutrition Service

Title: WIC Farmers Market Nutrition Program (FMNP) Forms: 683, 203 & Regulations.

OMB Control Number: 0584-0447.

Summary of Collection: The WIC Farmers' Market Nutrition Program (FMNP) is authorized by Public Law 102-314, enacted on July 2, 1992. The purpose of the FMNP is to provide resources to women, infants, and children who are nutritionally at risk, in the form of fresh, nutritious, unprepared foods (such as fruits and vegetables) from farmers' markets; to expand the awareness and use of farmers' markets; and, to increase sales at such markets. The Food and Nutrition Service (FNS) will collect information from each state that receives a grant under the FMNP program in conjunction with the preparation of annual financial and recipient reports.

Need and Use of the Information: FNS will collect information from the state agency administering the FMNP to develop an annual financial report on the number and type of recipients served by both Federal and non-Federal benefits under the program. The information is necessary for reporting to Congress in accordance with the Uniform Administrative Requirements for Grants and Cooperative Agreements to State and Local Governments and for program planning purposes.

Description of Respondents: State, Local, or Tribal Government; Individuals or household; Business or other for-profit.

Number of Respondents: 2,009.

Frequency of Responses: Recordkeeping; Reporting; Annually.

Total Burden Hours: 4,912.

Sondra A. Blakey,
Departmental Information Clearance Officer.

[FR Doc. 01-31548 Filed 12-21-01; 8:45 am]

BILLING CODE 3410-01-M